FEDERAL COMMUNICATIONS COMMISSION

47 CFR Part 73

[DA 06-1764; MB Docket No. 04-379; RM-11086]

Radio Broadcasting Service; Eatonton and Lexington, GA

AGENCY: Federal Communications Commission.

ACTION: Final rule.

SUMMARY: The Audio Division, at the request of Middle Georgia Communications, Inc., substitutes Channel 249C2 for Channel 249C3 at Eatonton, reallots Channel 249C2 from Eatonton to Lexington, Georgia, and modifies Station WMGZ (FM)'s license accordingly. Channel 249C2 can be reallotted to Lexington in compliance with the Commission's minimum distance separation requirements with a site restriction of 31.1 kilometers (19.3 miles) east to avoid a short-spacing to the licensed site of Station WSRV (FM), Channel 246C, Gainesville, Georgia. The reference coordinates for Channel 249C2 at Lexington are 33-51-00 North Latitude and 82-46-38 West Longitude.

DATES: Effective October 20, 2006.

ADDRESSES: Secretary, Federal Communications Commission, 445 Twelfth Street, SW., Washington, DC 20554.

FOR FURTHER INFORMATION CONTACT: Sharon P. McDonald, Media Bureau, (202) 418-2180.

SUPPLEMENTARY INFORMATION: This is a synopsis of the Commission's Report and Order, MB Docket No. 04-379, adopted August 31, 2006, and released September 5, 2006. The full text of this Commission decision is available for inspection and copying during regular business hours at the FCC's Reference Information Center, Portals II, 445 12th Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

As stated in the preamble, the Federal Communications Commission amends 47 CFR part 73 as follows:

PART 73—RADIO BROADCAST SERVICES

1. The authority citation for part 73 continues to read as follows:

Authority: 47 U.S.C. 154, 303, 334, 336.

§ 73.202 [Amended]

2. Section 73.202(b), the Table of FM Allotments under Georgia, is amended by removing Eatonton, Channel 249C3, and by adding Lexington, Channel 249C2.

Federal Communications Commission.
John A. Karousos,
Assistant Chief, Audio Division, Media Bureau.

[FR Doc. 06-7801 Filed 9-19-06; 8:45 am]

BILLING CODE 6712-01-P